NATIONAL CREDIT UNION ADMINISTRATION

Revisions of Agency Information Collection of a Previously Approved Collection; Request for Comments

AGENCY: National Credit Union Administration (NCUA).

ACTION: Notice of submission to the Office of Management and Budget.

SUMMARY: As required by the Paperwork Reduction Act of 1995, The National Credit Union Administration (NCUA) is submitting the following extensions and revisions of currently approved collections to the Office of Management and Budget (OMB) for renewal.

DATES: Written comments should be received on or before October 12, 2023 to be assured consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Mahala Vixamar at (703) 718-1155, emailing PRAComments@ncua.gov, or viewing the entire information collection request at www.reginfo.gov.

SUPPLEMENTARY INFORMATION:

OMB Number: 3133-0098.

Title: Advertising of Excess Insurance, 12 CFR 740.3.

Type of Review: Extension of a previously approved collection.

Abstract: Federally insured credit unions which offer or provide excess insurance coverage for their accounts must indicate the type and amount of such insurance, the name of the carrier and a statement that the carrier is not affiliated with the NCUSIF or the Federal government in all advertising that mentions account insurance.

Affected Public: Private Sector: Not-for-profit institutions.

Estimated Number of Respondents: 297.

Estimated Number of Responses per Respondent: 1.

Estimated Total Annual Responses: 297.

Estimated Hours per Response: 1.

Estimated Total Annual Burden Hours: 297.

Reason for Change: Minor adjustments are attributed to current updated data since the last previous submission.

OMB Number: 3133-0108.

Title: Monitoring Bank Secrecy Act Compliance.

Type of Review: Revision of a currently approved collection.

Abstract: The collection is needed to allow NCUA to determine whether credit unions have established a program reasonably designed to assure and monitor their compliance with current recordkeeping requirements established by Federal statute and Department of the Treasury regulation.

Affected Public: Private Sector: Not-for-profit institutions.

Estimated Number of Respondents: 4,686.

Estimated Number of Responses per Respondent: 1.

Estimated Total Annual Responses: 4,686.

Estimated Hours per Response: 16.

Estimated Total Annual Burden Hours: 74,976.

Reason for Change: Burden decreased due to the number of respondents decreasing.

OMB Number: 3133-0117.

Title: Designation of Low Income Status, 12 CFR 701.34(a).

Type of Review: Revision of a currently approved collection.

Abstract: The Federal Credit Union Act (12 U.S.C. 1752(5)) authorizes the NCUA Board to define low-income members so that credit unions with a membership serving predominantly low-income members can benefit from certain statutory relief and receive assistance from the Community Development Revolving Loan Fund (CDRLF). Under the authority of 12 CFR 701.34(a), NCUA must obtain certain data to determine if a credit union qualifies for the designation. NCUA uses the information from credit unions to determine whether they meet the criteria for the low-income designation.

Affected Public: Private Sector: Not-for-profit institutions.

Estimated Number of Respondents: 227.

Estimated Number of Responses per Respondent: 1.

Estimated Total Annual Responses: 227.

Estimated Hours per Response: 1.57.

Estimated Total Annual Burden Hours: 356.

Reason for Change: Burden decreased due to the number of respondents decreasing.

OMB Number: 3133-0130.

Title: Written Reimbursement Policy, 12 CFR 701.33.

Type of Review: Revision of a currently approved collection.

Abstract: Each Federal Credit Union (FCU) must draft a written reimbursement policy to ensure that the FCU makes payments to its directors within the guidelines that the FCU has established in advance and to enable examiners to easily verify compliance by comparing the policy to the actual reimbursements.

Affected Public: Private Sector: Not-for-profit institutions.

Estimated Number of Respondents: 2,931.

Estimated Number of Responses per Respondent: 1.

Estimated Total Annual Responses: 2,931.

Estimated Hours per Response: 0.50.

Estimated Total Annual Burden Hours: 1,465.5.

Reason for Change: Burden decreased due to the number of respondents decreasing.

OMB Number: 3133-0154.

Title: Prompt Corrective Action, 12 CFR 702 (Subparts A-D).

Type of Review: Revision of a currently approved collection.

Abstract: Section 216 of the Federal Credit Union Act (12 U.S.C. 1790d) mandates prompt corrective action requirements for federally insured credit unions (FICUs) that become less than well capitalized. The NCUA Board is required to (1) adopt, by regulation, a system of prompt corrective action to restore the net worth of inadequately capitalized FICUs; and (2) develop an alternative system of prompt corrective action for new credit unions that carries out the purpose of prompt corrective actions while allowing an FICU reasonable time to build its net worth to an adequately capitalized level. Part 702 implements the statutory requirements and, to achieve this, various information collections to meet the purpose of prompt corrective action as circumstances require.

Affected Public: Private Sector: Not-for-profit institutions.

Estimated Number of Respondents: 86.

Estimated Number of Responses per Respondent: 1.825.

Estimated Total Annual Responses: 157.

Estimated Hours per Response: 15.497.

Estimated Total Annual Burden Hours: 2,433.

Reason for Change: Burden increased due to the number of hours per response increasing.

OMB Number: 3133-0203.

Title: IRPS 19-1, Exceptions to Employment Restrictions Under Section 205(d) of the Federal Credit Union Act.

Type of Review: Revision of a currently approved collection.

Abstract: This information collection is required under Section 205(d) of the Federal Credit Union Act (FCU Act) to allow the National Credit Union Administration (NCUA) Board to make an informed decision whether to grant a waiver of the prohibition imposed by law under Section 205(d) of the FCU Act. Section 205(d) of the FCU Act prohibits a person who has been convicted of any criminal offense involving dishonesty or breach of trust, or who has entered into a pretrial diversion or similar program in connection with a prosecution for such offense, from participating in the affairs of a federally-insured credit union except with the prior written consent of the NCUA Board. The Interpretive Ruling and Policy Statement (IRPS) 19-1 prescribes the information collection contained therein, implement the requirements of the FCU Act.

Affected Public: Private Sector: Not-for-profit institutions.

Estimated Number of Respondents: 4.

Estimated Number of Responses per Respondent: 1.

Estimated Total Annual Responses: 4.

Estimated Hours per Response: 0.75.

Estimated Total Annual Burden Hours: 3.

OMB Number: 3133-0204.

Title: NCUA Profile.

Type of Review: Revision of a currently approved collection.

Abstract: Sections 106 and 202 of the Federal Credit Union Act require federally insured credit unions to make financial reports to the NCUA. Section 741.6 requires insured credit unions to submit a Credit Union Profile (NCUA Form 4501A) and update the Profile within 10 days of election or appointment of senior management or volunteer officials or 30 days of other changes in Program information. The NCUA website further directs credit unions to review and certify their Profiles every Call Report cycle. Credit union information collected through the Profile is essential to the NCUA supervision of federal credit unions and also facilitates the NCUA monitoring of other credit unions with share accounts insured by the National Credit Union Share Insurance Fund (NCUSIF).

Affected Public: Private Sector: Not-for-profit institutions.

Estimated Number of Respondents: 4,712.

Estimated Number of Responses per Respondent: 4.

Estimated Total Annual Responses: 18,848.

Estimated Hours per Response: 2.

Estimated Total Annual Burden Hours: 37,696.

Reason for Change: Burden decreased due to the number of respondents decreasing.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2023-19598 Filed 9-11-23; 8:45 am]

BILLING CODE 7535-01-P